DEPARTMENT OF THE INTERIOR

Minerals Management Service

5-Year Outer Continental Shelf (OCS) Oil and Gas Leasing Programs for 2002-2007 and 2007-2012; OCS Lease Sale 201 and Proposed Lease Sale 205, Central Gulf of Mexico; Draft Environmental Impact Statement (EIS) for 5-Year Leasing Program for 2007-2012

AGENCY: Minerals Management Service, Interior.

ACTION: Revision of 5-Year Leasing Program and Request for Comment.

SUMMARY: On October 24, 2006, the Department of Interior/MMS and the State of Louisiana announced the settlement of the case of Blanco, et al., v. Burton, et al. The District Court approved the settlement and dismissed the case on October 24, 2006. As a result of the settlement agreement, the MMS proposes to expand Lease Sale 205, scheduled in the Proposed 5-Year Program for 2007-2012 and accompanying Draft EIS, from the currently proposed program area (Map 1) to include all available acreage in the Central Gulf of Mexico Planning Area as proposed in the new program for subsequent Central Gulf sales (Map 2). The MMS is providing a 45-day comment period to specifically address this proposed change. The earlier comment periods on the Proposed 5-Year Program and Draft EIS, remain as announced on August 25, 2006. The comment period on the Program closes on November 24, 2006, and on the Draft EIS on November 22, 2006.

DATES: MMS is accepting comments regarding this newly proposed change for the Proposed 5-Year OCS Program for 2007-2012 and accompanying Draft EIS until December 29, 2006. Note that the comment periods for the earlier proposed 5-Year OCS Program for 2007-2012 and the Draft EIS remain the same as previously announced. This new 45-day comment period is for comments associated with the change identified here as a result of the settlement with Louisiana.

ADDRESSES: If you wish to comment, you may submit your comments by one of two methods. You may comment electronically using MMS's Public Connect online commenting system. This is the preferred method for commenting. This system can be accessed at http://www.mms.gov/5-year/2007-2012main.htm. From the Public Connect “Welcome” screen, search for “Proposed 5-Year OCS Oil and Gas Program Revisions and Draft EIS” or select it from the “Projects Open for Comment” menu.

You may also mail comments. Please label your comments and the packaging in which they are submitted according to the subject matter. For those pertaining to program preparation, label as “Comments on Revisions to Proposed 5-Year Program for 2007-2012” and mail to: Ms. Renee Orr, 5-Year Program Manager, Minerals Management Service (MS-4010), Room 3120, 381 Elden Street, Herndon, Virginia 20170-4817. For those pertaining to EIS preparation, label as “Comments on 2007-2012 Oil and Gas Program Revisions for Draft Environmental Impact Statement” and mail to: Mr. James F. Bennett, Chief, Branch of Environmental Assessment, 381 Elden Street, Mail Stop 4042, Herndon, Virginia 20170-4817. If you submit any privileged or proprietary information to be treated as confidential, please mark the envelope, “Contains Confidential Information.”

Before including your address, phone number, e-mail address, or other personal identifying information in your comment, be advised that your entire comment—including your personal identifying information—may be made publicly available at any time. While you can ask us in your comment to withhold from public review your personal identifying information, we cannot guarantee that we will be able to do so. However, we will not consider anonymous comments. Except for proprietary information, we will make all submissions from organizations or businesses, and from individuals identifying themselves as representatives or officials of organizations or businesses, available for public inspection in their entirety.

FOR FURTHER INFORMATION CONTACT: Ms. Renee Orr, Minerals Management Service, Chief, Leasing Division, at (703) 787-1215; or Mr. James Bennett, Chief, Environmental Assessment Branch, at (703) 787-1660.

SUPPLEMENTARY INFORMATION: On July 20, 2006, the State of Louisiana filed a lawsuit in U.S. District Court for the Eastern District of Louisiana under the Administrative Procedures Act alleging that MMS violated the terms of the National Environmental Policy Act, the Coastal Zone Management Act, and the OCS Lands Act. The court denied the State of Louisiana's request to enjoin holding Lease Sale 200 as scheduled on August 16, 2006, and opening the bids or awarding any leases, and set the case for trial on November 13, 2006. Lease Sale 200 was held as scheduled.

The MMS and the State have entered into a Settlement Agreement. Under this settlement, MMS has agreed to prepare an EIS before conducting the next sale in the Gulf of Mexico. As a result, MMS is canceling Lease Sale 201, scheduled for March 2007 in the current 5-year program for 2002-2007. We also propose to enlarge Lease Sale 205 from that in the proposed 5-year program for 2007-2012, released for comment on August 25, 2006, to include all of the available acreage comprising the Central Gulf of Mexico Planning Area, as proposed in the new program for subsequent Central Gulf sales (Map 2). In effect, this change simply postpones for several months the estimated effects of Sale 201. The environmental impacts of this change are not significant beyond the change in timing of the offering.

Dated: November 6, 2006.
R.M. “Johnnie” Burton,
Director, Minerals Management Service.

BILLING CODE 4310-MR-P

[FR Doc. 06-9192 Filed 11-13-06; 8:45 am]

BILLING CODE 4310-MR-C